DEPARTMENT OF HOMELAND SECURITY

Coast Guard

33 CFR Parts 175 and 183

[Docket No. USCG-2009-0206]

RIN 1825-AB34

Installation and Use of Engine Cut-Off Switches on Recreational Vehicles

Correction

Proposed Rule document 2011-14140 was inadvertently published in the Rules section of the issue of June 8, 2011, beginning on page 33161. It should have appeared in the Proposed Rules section.

[FR Doc. 2011-15122 Filed 6-16-11; 8:45 am]

BILLING CODE 1505-01-D